OFFICE OF THE UNITED STATES TRADE REPRESENTATIVE

[Docket Number USTR-2025-0015]

Request for Comments and Notice of Public Hearing Concerning China's Compliance With WTO Commitments

AGENCY: Office of the United States Trade Representative.

ACTION: Request for comments and notice of public hearing.

SUMMARY: The Office of the United States Trade Representative (USTR) is seeking public comments to assist in the preparation of its annual report to Congress on China's compliance with its obligations as a Member of the World Trade Organization (WTO). This notice includes the schedule for the submission of comments for the China report and a public hearing.

DATES:

September 24, 2025, at 11:59 p.m. EDT: Deadline for submission of written comments, requests to testify, and summaries of written testimony.

October 7, 2025, at 9:30 a.m. EDT: USTR will convene a public hearing to receive oral testimony.

ADDRESSES: USTR strongly prefers electronic submissions made through the Federal eRulemaking Portal: https://www.regulations.gov (Regulations.gov). Follow the instructions for submitting written comments and testimony and requests to testify in sections III and IV below, using Docket Number USTR-2025-0015. For alternatives to on-line submissions, please contact Alex Martin, Deputy Director for China Affairs, in advance of the relevant deadline at Thomas.A.Martin@ustr.eop.gov or 202.395.9625.

FOR FURTHER INFORMATION CONTACT: Alex Martin, Deputy Director for China Affairs, at Thomas.A.Martin@ustr.eop.gov or (202) 395-9625.

SUPPLEMENTARY INFORMATION:

I. Background

China became a Member of the WTO on December 11, 2001. In accordance with section 421 of the U.S.-China Relations Act of 2000 (Pub. L. 106-286), USTR is required to submit annually a report to Congress on China's compliance with commitments made in connection with its accession to the WTO, including both multilateral commitments and any bilateral commitments made to the United States. In accordance with section 421, and to assist it in preparing this year's report, USTR is soliciting public comments. You can find last year's report on the USTR website at: https://ustr.gov/sites/default/files/files/reports/2025/2024USTRReportCongressonChinaWTOCompliance.pdf.

The terms of China's accession to the WTO are contained in the Protocol on the Accession of the People's Republic of China (including its annexes) (Protocol), the Report of the Working Party on the Accession of China (Working Party Report), and the WTO agreements. You can find the Protocol and Working Party Report on the WTO website at http://docsonline.wto.org (document symbols: WT/L/432, WT/MIN(01)/3, WT/MIN(01)/3/Add.1, WT/MIN(01)/3/Add.2).

II. Hearing Participation

USTR will convene a public hearing on October 7, 2025, related to China's compliance with its WTO commitments.

To ensure participation, you must submit requests to present oral testimony at the hearing and summaries of written testimony by 11:59 p.m. on September 24, 2025, via Regulations.gov, using Docket Number USTR-2025-0015. Instructions for submission are in Sections III and IV below. Remarks at the hearing will be limited to no more than five minutes to allow for possible questions from the TPSC. Because it is a public hearing, testimony should not include any business confidential information (BCI).

Small businesses (generally defined by the Small Business Administration as firms with fewer than 500 employees) or organizations representing small business members that submit comments should self-identify as such, so that we may be aware of issues of particular interest to small businesses.

Written comments and/or oral testimony should address China's compliance with the commitments made in connection with its accession to the WTO, including, but not limited to, commitments in the following areas:

A. Trading rights.

B. Import regulation (e.g., tariffs, tariff-rate quotas, quotas, import licenses).

C. Export regulation.

D. Internal policies affecting trade (e.g., subsidies, standards and technical regulations, sanitary and phytosanitary measures, government procurement, trade-related investment measures, taxes and charges levied on imports and exports).

E. Intellectual property rights (including intellectual property rights enforcement).

F. Services.

G. Rule of law issues (e.g., transparency, judicial review, uniform administration of laws and regulations) and status of legal reform.

H. Other WTO commitments.

In addition, given the United States' view that China should be held accountable as a full participant in, and beneficiary of, the international trading system, USTR requests that interested persons specifically identify unresolved compliance issues that warrant review and evaluation by USTR.

III. Procedures for Written Submissions

To be assured of consideration, submit your written comments, requests to testify, and summaries of written testimony by the September 24, 2025, 11:59 p.m. EDT deadline. All submissions must be in English. USTR strongly encourages submissions via Regulations.gov, using Docket Number USTR-2025-0015.

To make a submission via Regulations.gov, enter Docket Number USTR-2025-0015 in the ‘search for’ field on the home page and click ‘search.’ The site will provide a search results page listing all documents associated with this docket. Find a reference to this notice by selecting ‘notice’ under ‘document type’ in the ‘refine documents results’ section on the left side of the screen and click on the link entitled ‘comment.’

Regulations.gov allows users to make submissions by filling in a ‘type comment’ field, or by attaching a document using the ‘upload file’ field. USTR prefers that you provide submissions in an attached document and, in such cases, that you write ‘see attached’ in the ‘type comment’ field. USTR prefers submissions in Microsoft Word (.doc) or Adobe Acrobat (.pdf). If you use an application other than those two, please indicate the name of the application in the ‘type comment’ field.

At the beginning of your submission or on the first page (if an attachment), include the following text: (1) 2025 China WTO Compliance Report; (2) your organization's name; and (3) whether the submission is a written comment, request to testify, or summary of written testimony. Submissions should not exceed 30 single-spaced, standard letter-size pages in 12-point type, including attachments. Please do not attach separate cover letters, exhibits, annexes, or other attachments to electronic submissions; rather, include any in the same file as the submission itself, not as separate files. You will receive a tracking number upon completion of the submission procedure at Regulations.gov. The tracking number is confirmation that Regulations.gov received your submission. Keep the confirmation for your records. USTR is not able to provide technical assistance for Regulations.gov.

For further information on using Regulations.gov, please consult the resources provided on the website by clicking on ‘How to Use Regulations.gov’ on the bottom of the home page. USTR may not consider submissions that you do not make in accordance with these instructions.

If you are unable to provide submissions as requested, please contact Alex Martin, Deputy Director for China Affairs, in advance of the deadline at Thomas.A.Martin@ustr.eop.gov or (202) 395-9625, to arrange for an alternative method of transmission. USTR will not accept hand-delivered submissions.

General information concerning USTR is available at www.ustr.gov.

IV. Business Confidential Information (BCI) Submissions

If you ask USTR to treat information you submit as BCI, you must certify that the information is business confidential and you would not customarily release it to the public. For any comments submitted electronically containing BCI, the file name of the business confidential version should begin with the characters ‘BCI.’ You must clearly mark any page containing BCI with ‘BUSINESS CONFIDENTIAL’ at the top of that page. Filers of submissions containing BCI also must submit a public version of their submission that will be placed in the docket for public inspection. The file name of the public version should begin with the character ‘P.’

V. Public Viewing of Review Submissions

USTR will post written submissions in the docket for public inspection, except properly designated BCI. You can view submissions at Regulations.gov by entering Docket Number USTR-2025-0015 in the search field on the home page.

Edward Marcus,
Chair of the Trade Policy Staff Committee, Office of the United States Trade Representative.

[FR Doc. 2025-15655 Filed 8-15-25; 8:45 am]

BILLING CODE 3390-F4-P